DEPARTMENT OF JUSTICE

Notice of Intent To Prepare a Draft Environmental Impact Statement (DEIS) for Development of a Contract Detention Facility To House Persons in the Custody of the U.S. Department of Justice

The contract detention facility is proposed to be located within a 75-mile radius of the Lloyd D. George U.S. Courthouse located at 333 Las Vegas Boulevard, Las Vegas, Nevada.

AGENCY: U.S. Department of Justice, Office of the Federal Detention Trustee.

ACTION: Notice of Intent to Prepare a Draft Impact Statement.

SUMMARY: The United States Department of Justice, Office of the Federal Detention Trustee (OFDT), intends to prepare a Draft Environmental Impact Statement (DEIS) for development of a contract detention facility to house persons in the custody of the U.S. Department of Justice. The contract detention facility is proposed to be located within a 75-mile radius of the Lloyd D. George U.S. Courthouse located at 333 Las Vegas Boulevard, Las Vegas, Nevada.

Background Information

The Office of the Federal Detention Trustee (OFDT) was established on December 20, 2000, when the President signed the Department of Justice Appropriations Act of 2001, Public Law 106-553. Public Law 106-553 provides for necessary expenses for the OFDT who shall exercise all power and functions authorized by law relating to the detention of federal prisoners in non-federal institutions, or otherwise in the custody of the United States Marshals Service (USMS); and the detention of aliens in the custody of the U.S. Department of Homeland Security, Immigration and Customs Enforcement (DHS/ICE). The OFDT has responsibility over construction of detention facilities or for housing related to such detention; the management of funds appropriated to the U.S. Department of Justice for the exercise of any detention functions, and the direction of the USMS and the DHS/ICE involving detention policies and operations for the U.S. Department of Justice. Detention consumes a significant and growing portion of the Department's budget with responsibility for detainees divided among several agencies.

At the present time, the OFDT is seeking to obtain contract detention services to house persons in the custody of the USMS in the Las Vegas, Nevada region. The comprehensive detention services would serve a population principally consisting of individuals charged with federal offenses and detained while awaiting trial or sentencing, a hearing on immigration status, or deportation. The OFDT intends to award a contract to accommodate approximately 1,000 to 1,500 detainees.

During the past 20 years, the federal detainee population has experienced unprecedented growth as a result of expanded federal law enforcement initiatives and resources. During this time, the detainee population has increased by over 1,000 percent, from approximately 3,000 in 1981 to over 55,000 today with continued growth in the federal detainee population expected for the foreseeable future. These prisoners are currently housed in a combination of local, state, federal and private facilities with the growth in the detainee population occurring at the same time that available space in local jails is decreasing. Local jail space is increasingly needed to house local offenders, leaving less space available for the contractual accommodation of federal detainees. These trends are projected to continue and present a major challenge for the OFDT and other federal agencies responsible for detaining prisoners. By contrast, the USMS is the nation's oldest and most versatile federal law enforcement agency. Created by the Judiciary Act of 1789, the same legislation that established the federal judicial system, the USMS have served the nation through a variety of vital law enforcement activities. The Director, Deputy Director and 94 U.S. Marshals (appointed by the President or the Attorney General) direct the activities of 95 district offices and personnel stationed at more than 350 locations throughout the 50 states and U.S. territories. The USMS occupies a uniquely central position in the federal justice system and is involved in virtually every federal law enforcement initiative. Approximately 4,000 Deputy Marshals and career employees perform a variety of nationwide, day-to-day missions.

Faced with severe bedspace shortages in state and local jails, especially in major metropolitan areas, the OFDT and USMS periodically contract for detention services. Such a situation has arisen in the Las Vegas area where, until recently, federal detainees were housed in locally-owned and operated facilities. In response, it has been determined that in order to house federal detainees within proximity to the U.S. Courthouse in Las Vegas, reliance would be placed upon a Contractor-owned/Contractor-operated detention facility. The proposed facility shall be located within a 75-mile radius of the Lloyd D. George U.S. Federal Courthouse which is located at 333 Las Vegas Boulevard South in Las Vegas, Nevada.

Proposed Action

The OFDT, in cooperation with the USMS, has determined that there is a need to house approximately 1,000 to 1,500 federal detainees within the Las Vegas, Nevada area. The high level of law enforcement activities of U.S. Department of Justice in the western United States in general and the Las Vegas, Nevada region in particular requires more beds than are readily available in local or state facilities. There is also a particular need for detention facilities to be located near federal courthouses because of the USMS responsibility to detain those individuals accused of violating federal laws and to make them available to the courts when necessary for trial or sentencing.

In response to this need, the OFDT, in cooperation with the USMS, is seeking to contract with a detention contractor to provide a contractor-owned and operated facility capable of housing approximately 1,000 to 1,500 detained individuals charged with federal offenses. Prospective contract detention facility sites within a 75-mile radius of the U.S. Courthouse located at 333 Las Vegas Boulevard in Las Vegas, Nevada have been offered to the OFDT and USMS for consideration. The sites are described as follows:

• Apex Industrial Use Zone Site (A)—Unincorporated Clark County, Nevada.

• Apex Industrial use Zone Site (B)—Unincorporated Clark County, Nevada.

• Dolan Springs Site—Dolan Springs, Mohave County, Arizona.

• 1600 East Mike Road Site—Pahrump, Nye County, Nevada.

• 2250 East Mesquite Avenue Site—Pahrump, Nye County, Nevada.

• 2871 East Mesquite Avenue Site—Pahrump, Nye County, Nevada.

• 8251 East Panaca Avenue/8500 East Huxley Avenue Site—Pahrump, Nye County, Nevada.

• 630 East Parque Avenue Site—Pahrump, Nye County, Nevada.

• Kingman Site—Kingman, Mohave County, Arizona.

• Moapa 80 Site—Moapa, Nevada.

• 6871 North Blagg Road Site—Pahrump, Nye County, Nevada.

Several of the sites listed above have been offered by more than one contractor and each site offered will be evaluated by the OFDT in a DEIS that will analyzed the potential impacts of detention facility construction and operation at the prospective sites.

The Process

In the process of evaluating prospective sites, many factors and features will be analyzed including, but not limited to: topography, geology/soils, hydrology, biological resources, utility services, transportation services, cultural resources, land uses, socio-economics, hazardous materials, visual and aesthetic resources, air and noise quality, among others.

Alternatives

In developing the DEIS, the No Action alternative and alternative sites for the proposed contract detention facility will be examined.

Scoping Process

During the preparation of the DEIS, there will be opportunities for public involvement in order to determine the issues to be examined. Public Scoping Meetings will be held in and around communities under consideration for development of the contract detention facility at times, dates and at locations to be determined. The meeting locations, dates, and times will be well publicized and will be arranged to allow for the public as well as interested agencies and organizations to attend and formally express their views on the scope and significant issues to be studied as part of the DEIS process. The Public Scoping Meetings are also being held to provide for timely public comments and understanding of federal plans and programs with possible environmental consequences as required by the National Environmental Policy Act of 1969, as amended, and the National Historic Preservation Act of 1966, as amended.

Availability of DEIS

Public notice will be given concerning the availability of the DEIS for public review and comment.

FOR FURTHER INFORMATION CONTACT: Scott P. Stermer, Assistant Federal Detention Trustee, Telephone: 202-353-4601/Facsimile: 202-353-4611/e-mail: scott.stermer2@usdoj.gov.

Dated: May 31, 2007.
Scott P. Stermer,
Assistant Federal Detention Trustee, Office of the Federal Detention Trustee.

[FR Doc. 07-2830 Filed 6-6-07; 8:45am]

BILLING CODE 4410-PE-M